DEPARTMENT OF AGRICULTURE

Food and Nutrition Service

Agency Information Collection Activities: Supplemental Nutrition Assistance Program (SNAP)—Waiver Requests To Offer Incentives to SNAP Recipients at SNAP Authorized Stores

AGENCY: Food and Nutrition Service (FNS), USDA.

ACTION: Notice.

SUMMARY: In accordance with the Paperwork Reduction Act of 1995, this notice invites the general public and other public agencies to comment on this proposed information collection. This is an existing collection in use without an OMB Control Number in which we are seeking approval to establish a process for requesting a waiver from the Food and Nutrition Service (FNS) to offer SNAP recipients incentives at SNAP authorized retailer locations that encourage them to purchase healthier foods. This collection burden only affects SNAP retailers as well as private organizations or governmental entities who partner with SNAP retailers. There are no data collection activities for SNAP households in this request.

DATES: Written comments must be received on or before April 10, 2023.

ADDRESSES: The Food and Nutrition Service, USDA, invites interested persons to submit written comments on this information collection. Comments may be submitted in writing by one of the following methods:

• Federal eRulemaking Portal: Go to http://www.regulations.gov. Follow the online instructions for submitting comments.

• Mail: Comments should be addressed to Marga Ortiz, Chief, Retailer Policy Branch, Retailer Policy Division, 1320 Braddock Place, Alexandria, Virginia 22314.

All responses to this notice summarized and included in the request for Office of Management and Budget approval. All comments will be a matter of public record.

FOR FURTHER INFORMATION CONTACT: Requests for additional information or copies of this information collection should be directed to Marga Ortiz at 703-305-2546.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: SNAP Retailer Incentive Waiver Request.

Form Number: Not Applicable.

OMB Number: 0584-NEW.

Expiration Date: Not Yet Determined.

Type of Request: Existing collection in use without an OMB Control Number.

Abstract: SNAP equal treatment provisions at 7 CFR 278.2(b) and 7 CFR 274.7(f) require that SNAP recipients receive treatment equal to that received by other customers at all stores authorized to participate in SNAP with the exception that sales tax may not be charged on eligible foods purchased with SNAP benefits. This equal treatment provision prohibits both negative treatment (such as discriminatory practices) as well as preferential treatment (such as incentive programs). Pursuant to Section 4008 of the Agriculture Improvement Act of 2018, Public Law 115-334 (2018 Farm Bill), individual SNAP authorized retailers (or private organizations or governmental entities, which partner with authorized stores) may request that FNS waive the SNAP equal treatment provisions in order to be allowed to implement an incentive program the meets the requirements under 7 U.S.C. 2018(j) to encourage SNAP recipients to purchase healthier foods. Most SNAP authorized stores that offer incentives to SNAP recipients are either farmers' markets or part of a federally-funded grant program that is authorized by statute, including the Gus Schumacher Nutrition Incentive Program (GusNIP) administered by the USDA's National Institute of Food and Agriculture (NIFA), and the Healthy Fluid Milk Incentive (HFMI) project administered by the Food and Nutrition Service.

Farmer's markets are also already authorized to provide incentives to SNAP recipients under a blanket FNS waiver of the SNAP equal treatment provision, specifically for farmers' markets. Only incentive projects that are funded outside of a Federal grant, other than projects funded by farmers' markets, are required to have a waiver from FNS to provide incentives to SNAP households at authorized SNAP retailer locations. FNS provided incentive waivers to SNAP retailers prior to passage of the 2018 Farm Bill under FNS' regular waiver process and has been providing the waivers under a streamlined approach since 2020. Over the past 3 years, FNS has received an average of nine incentive waiver requests that generally cover multiple retailer locations, and we expect those numbers to increase over the next 5 years. With this new streamlined process, the Department estimates that out of 254,350 authorized retailers that participate in our program, approximately 730 different retailers would be covered under 15 different incentive waiver requests annually. In general, the waivers are granted for three years.

The process for requesting a waiver involves utilizing a form on FNS' website that is directly fillable online and automatically sent to FNS through the website. The information a retailer must submit includes:

1. Requestor Information;

2. Dates of Operation;

3. Retailer location(s), including the FNS number, name, and address of each participating retailer;

4. Foods being incentivized;

5. Description of the incentive model; and

6. The goal of the incentive program.

The Department has identified and outlined the activity and the estimated burden hours associated with submitting a SNAP Retailer Incentive Waiver Request.

SNAP Retailer Incentive Waiver Request

Affected Public: (a) Business or other for-profit, (b) Not-for-profit institution, and (c) State, local or Tribal Government. Respondent groups identified include: Up to a total of four SNAP authorized stores, five not-for-profit institutions, and six State, local or Tribal governments, which are neither farmers' markets nor operating an incentive program under a Federal grant.

Business or Other For-Profit/Not-For-Profit Institution/State, Local or Tribal Government Annual Burden

Estimated Annual Number of Respondents: 15.

Estimated Annual Number of Responses per Respondent: 1.

Estimated Total Annual Responses: 15.

Estimated Annual Time per Response: 2 hours.

Estimated Total Annual Burden on Respondents: 30 hours.

See the table below for estimated total annual burden for each type of respondent.

Respondent | CFR citation | Activity | Estimated annual # respondent | Responses annually per respondent | Total annual responses | Estimated avg. # of hours per response annually | Estimated annual total hours
Business or other for-profit | 7 CFR 274.7(f) and 278.2(b) | SNAP Retailer Incentive Waiver Request | 4.00 | 1.00 | 4.00 | 2.0 | 8.0
Not-for-profit institution | 7 CFR 274.7(f) and 278.2(b) | SNAP Retailer Incentive Waiver Request | 5.00 | 1.00 | 5.00 | 2.0 | 10.0
Sub-total of for-profit businesses and not-for-profit institutions |  |  | 9.00 | 1.00 | 9.00 | 4.0 | 18.0
State, local or Tribal Government | 7 CFR 274.7(f) and 278.2(b) | SNAP Retailer Incentive Waiver Request | 6.00 | 1.00 | 6.00 | 2.0 | 12.0
Grand Total Reporting Burden |  |  | 15 | 1 | 15 | 6.0 | 30.0

Requirement—national office | Total responses per year | FNS hrs per response | FNS response per respondent | Total federal hours | Hourly salaries for GS13, step 1 GS14, step 1 GS15, step 1 | FNS base salary costs | Fringe benefits at 33% | Base salary + fringe benefits = total salary
A | B | C | D | E | F | G | H | I
|  |  |  | (B × C × D = E) | (E × F = G) | (G × .33 = H) | (G + H = I) |
a. Program Analyst GS13 Step 1. Estimates of Annualized Cost to Federal Government for reviewing, drafting response, sending response | 15 | 1.25 | 1 | 18.75 | $53.67 | $1,006.31 | $332.08 | $1,338.40
b. Program Branch Chief GS14 Step 1. Estimates of Annualized Cost to Federal Government for drafting, reviewing and approving response | 15 | 0.5 | 1 | 7.5 | 63.43 | 475.73 | 156.99 | 632.71
c. Program Division Director GS15 Step 1. Estimates of Annualized Cost to Federal Government for, reviewing and approving response | 15 | 0.25 | 1 | 3.75 | 74.60 | 279.75 | 92.32 | 372.07
|  |  |  | 30 |  |  |  | 2,343.18

Tameka Owens,
Assistant Administrator, Food and Nutrition Service.

[FR Doc. 2023-02660 Filed 2-7-23; 8:45 am]

BILLING CODE 3410-30-P